RAILROAD RETIREMENT BOARD

Notice of Sunshine Act Meeting

Notice is hereby given that the Railroad Retirement Board will hold a meeting on March 28, 2012, 9:30 a.m. at the Board's meeting room on the 8th floor of its headquarters building, 844 North Rush Street, Chicago, Illinois, 60611. The agenda for this meeting follows:

Portion open to the public:

(1) Executive Committee Reports

(2) Elimination of Director of Operations Position/Stand Alone Field Service Organization

Portion closed to the public:

(A) Director of Administration Position

The person to contact for more information is Martha P. Rico, Secretary to the Board, Phone No. 312-751-4920.

Dated: March 12, 2012.
Martha P. Rico,
Secretary to the Board.

[FR Doc. 2012-6419 Filed 3-13-12; 4:15 pm]

BILLING CODE 7905-01-P